DEPARTMENT OF ENERGY

Federal Energy Regulatory Commission

[Docket No. RD14-4-000]

Proposed Agency Information Collection

AGENCY: Federal Energy Regulatory Commission, DOE.

ACTION: Notice and Request for Comments.

SUMMARY: The Federal Energy Regulatory Commission (Commission) invites public comment in Docket No. RD14-4-000 on a proposed collection of information that the Commission is developing for submission to the Office of Management and Budget (OMB) pursuant to the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before August 26, 2014.

ADDRESSES: Comments, identified by docket number, may be filed in the following ways:

• Electronic Filing through http://www.ferc.gov. Documents created electronically using word processing software should be filed in native applications or print-to-PDF format and not in a scanned format.

• Mail/Hand Delivery: Those unable to file electronically may mail or hand-deliver an original of their comments to: Federal Energy Regulatory Commission, Secretary of the Commission, 888 First Street NE., Washington, DC 20426.

FOR FURTHER INFORMATION CONTACT: Ellen Brown may be reached by email at DataClearance@FERC.gov, telephone at (202) 502-8663, and fax at (202) 273-0873.

SUPPLEMENTARY INFORMATION: The proposed information collection in Docket No. RD14-4-000 relates to a proposed revision to the Interchange Scheduling and Coordination (INT) group of Reliability Standards, developed by the North American Electric Reliability Corporation (NERC), and submitted to the Commission for approval. The proposed revision modifies the Interchange Scheduling and Coordination Reliability Standards in response to Commission directives in Order No. 693,¹ as well as some other clarifying revisions relating to the ten revised definitions and four new definitions to be added to the NERC Glossary of Terms Used in NERC Reliability Standards (NERC Glossary). The information collection requirements contained in the Interchange Scheduling and Coordination group of Reliability Standards are contained in FERC-725A (OMB Control Number 1902-0244).

¹ Mandatory Reliability Standards for the Bulk-Power System, Order No. 693, 72 FR 16416 (Apr. 4, 2007), FERC Stats. & Regs. ¶ 31,242, at PP 819, 821, 843, 848, 872, 875 & 887, order on reh'g, Order No. 693-A, 120 FERC ¶ 61,053 (2007).

On March 16, 2007, the Commission issued Order No. 693, approving 83 of the 107 Reliability Standards and associated definitions filed by NERC, including the Interchange Scheduling and Coordination group of Reliability Standards INT-001, INT-003, INT-004, INT-005, INT-006, INT-007, INT-008, INT-009, and INT-010.² In Order No. 693, the Commission directed NERC to make changes through the Reliability Standards development process to address certain directives. Specifically, the Commission directed NERC to: (1) Develop a modification to INT-001-2 that includes a requirement that interchange information must be submitted for all point-to-point transfers entirely within a balancing authority area, including all grandfathered and “non-Order No. 888” transfers; and (2) to develop a modification to INT-006-1 through the Reliability Standards development process to make the standard applicable to reliability coordinators and transmission operators, and require reliability coordinators and transmission operators to review energy interchange transactions from the wide-area and local area reliability viewpoints respectively and, where their review indicates a potential detrimental reliability impact, communicate to the sink balancing authorities necessary transaction modifications.

² Order No. 693, FERC Stats. & Regs. ¶ 31,242 at PP 814-887.

In its February 27, 2014 petition, NERC seeks Commission approval of proposed revisions to the currently effective Reliability Standards, as well as one new Reliability Standard to address the Commission's directives. NERC asserts that, collectively, the five proposed Reliability Standards, consisting of fourteen requirements, consolidate the body of Interchange Scheduling and Coordination Reliability Standards. In its petition, NERC also seeks approval for the retirement of the currently effective Reliability Standards.³ NERC also seeks approval of ten revised definitions and four new definitions to be added to the NERC Glossary. NERC proposes to add the term “Interchange” to the existing definition for “Operational Planning Analysis.” ⁴ NERC States that “by explicitly including `Interchange' in the definition of `Operational Planning Analysis,' the Reliability Coordinator must consider Interchange when performing the analysis required in Reliability Standard IRO-008-1.” ⁵ Therefore, the estimates for this information collection are based on the proposed modifications.

³ NERC Petition at 4.

⁴ “Interchange” is defined in the NERC Glossary as “Energy transfers that cross Balancing Authority Boundaries.

⁵ NERC Petition at 32.

The Commission estimates a modest increase in information collection and reporting that would result from implementing NERC's proposed revision to the NERC Glossary definition of “Operational Planning Analysis” and new proposed Reliability Standard INT-011-1. The estimate reflects NERC's proposal to include a requirement that interchange information must be submitted for all point-to-point transfers entirely within a balancing authority area, including all grandfathered and “non-Order No. 888” transfers; and NERC's alternative proposal to address the Commission's concern regarding INT-006-1, as described above.

NERC explains that “by explicitly including `Interchange' in the definition of `Operational Planning Analysis,' the Reliability Coordinator must consider Interchange when performing the analysis required in Reliability Standard IRO-008-1.” ⁶ These administrative burdens fall into three categories of “Submit Interchange Information,” “Communicate Transaction Modification” and “Submit a Request for Interchange” as described in NERC's petition.⁷ NERC's technical justification has shown that when the results of reliability coordinator studies indicate the need for action, the reliability coordinator is required to share the results per Requirement R3 of Reliability Standard IRO-008-1. NERC explains that because energy transfers within a balancing authority area that use point-to-point transmission service can impact transmission congestion, proposed Reliability Standard INT-011-1 ensures that these transfers are communicated and accounted for in congestion management procedures. If a transfer within a balancing authority area is submitted as a request for interchange or otherwise accounted for in congestion management procedures, it can be evaluated and processed comparable to a request for interchange that crosses balancing authority areas.⁸

⁶ NERC Petition at 32.

⁷ NERC Petition, Exhibit E at 1-2.

⁸ NERC Petition at 22.

Accordingly, we estimate an increase of one hour needed for “Submit Interchange Information” for balancing authorities, “Communicate Transaction Modification” for the reliability coordinators, and “Submit a Request for Interchange” for the load-serving entities, respectively. With respect to the proposed revisions and retirement of the currently-effective Reliability Standards, the Commission estimates no material change in information collection because the consolidation of the standards does not impact the paperwork burden.

Burden Statement: Public reporting burden for this proposed collection is estimated as:

FERC-725A
| Number and type of respondents | Annual number of responses per respondent | Total number of responses | Average burden & cost per response ⁹ | Total annual burden hours & total annual cost | Cost per respondent ($)
| (1) | (2) | (1)*(2) = (3) | (4) | (3)*(4) = (5) | (5) ÷ (1)
Submit Interchange Information | 114, Balancing authority (BA) | 52 | 5,928 | 1, $60 | 5,928, $355,680 | $3,120
Communicate Transaction Modification | 21, Reliability coordinator (RC) | 12 | 252 | 1, $60 | 252, $15,120 | 720
Submit Request for Interchange (INT-011-1) | 502, Load-serving entity (LSE) | 12 | 6,024 | 1, $60 | 6,024, $361,440 | 720
Evidence Retention | 637, BA/RC/LSE | 1 | 637 | 1, $32 | 637, $20,384 | 32
Total |  |  | 12,841 |  | 12,841, $752,624 |

⁹ The estimates for cost per response are derived using the following formula: Average Burden Hours per Response * XX per Hour = Average Cost per Response. The estimates for cost per hour (rounded to the nearest dollar) are derived as follows:

• $60/hour, the average salary plus benefits per engineer (from Bureau of Labor Statistics at http://bls.gov/oes/current/naics3_221000.htm).

• $82/hour, the salary plus benefits per manager (from Bureau of Labor Statistics at http://bls.gov/oes/current/naics3_221000.htm).

• $32/hour, the salary plus benefits per information and record clerks (from Bureau of Labor Statistics at http://bls.gov/oes/current/naics3_221000.htm).

Dated: June 18, 2014.
Kimberly D. Bose,
Secretary.

[FR Doc. 2014-15091 Filed 6-26-14; 8:45 am]

BILLING CODE 6717-01-P